DEPARTMENT OF ENERGY

Federal Energy Regulatory Commission

Combined Notice of Filings #1

Take notice that the Commission received the following electric rate filings:

Docket Numbers: ER11-3812-001.

Applicants: LSP Energy Limited Partnership.

Description: Notification of Change in Status of LSP Energy Limited Partnership.

Filed Date: 10/03/2011.

Accession Number: 20111003-5244.

Comment Date: 5 p.m. Eastern Time on Monday, October 24, 2011.

Docket Numbers: ER12-11-000.

Applicants: Nevada Power Company.

Description: Nevada Power Company submits tariff filing per 35.12: Rate Schedule No. 123 Merchant Substation Maintenance Agreement to be effective 10/1/2011.

Filed Date: 10/03/2011.

Accession Number: 20111003-5216.

Comment Date: 5 p.m. Eastern Time on Monday, October 24, 2011.

Docket Numbers: ER12-12-000.

Applicants: Massie Power LLC.

Description: Massie Power LLC submits tariff filing per 35.1: Massie Power, LLC MBR to be effective 10/3/2011.

Filed Date: 10/03/2011.

Accession Number: 20111003-5232.

Comment Date: 5 p.m. Eastern Time on Monday, October 24, 2011.

Docket Numbers: ER12-13-000.

Applicants: MidAmerican Energy Company.

Description: MidAmerican Energy Company submits tariff filing per 35.13(a)(2)(iii: Engineering and Procurement Agreement—Rate Schedule 119 to be effective 10/4/2011.

Filed Date: 10/03/2011.

Accession Number: 20111003-5235.

Comment Date: 5 p.m. Eastern Time on Monday, October 24, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2011.
Nathaniel J. Davis, Sr.,
Deputy Secretary.

[FR Doc. 2011-26277 Filed 10-11-11; 8:45 am]

BILLING CODE 6717-01-P